SECURITIES AND EXCHANGE COMMISSION

[File No. 500-1]

Vitaminspice Inc.; Order of Suspension of Trading

February 19, 2013.

It appears to the Securities and Exchange Commission that there is a lack of current and accurate information concerning the securities of VitaminSpice Inc. (“VitaminSpice”) because of questions regarding the adequacy of current financial information available about VitaminSpice; and the accuracy of assertions by VitaminSpice, and by others, in press releases to investors, in periodic financial filings and in internet promotions concerning, among other things, the company's revenues and operations.

The Commission is of the opinion that the public interest and the protection of investors require a suspension of trading in the securities of the above-listed company.

Therefore, it is ordered, pursuant to Section 12(k) of the Securities Exchange Act of 1934, that trading in the securities of the above-listed company is suspended for the period from 9:30 a.m. EST, on February 19, 2013 through 11:59 p.m. EST, on March 4, 2013.

By the Commission.
Jill M. Peterson,
Assistant Secretary.

[FR Doc. 2013-04083 Filed 2-19-13; 11:15 am]

BILLING CODE 8011-01-P